UNIFIED CARRIER REGISTRATION PLAN

Sunshine Act Meetings

TIME AND DATE: December 8, 2022, 1:30 p.m. to 5:30 p.m., Eastern Time.

PLACE: This meeting will take place at the Holiday Inn, Savannah, Historic District, 520 West Bryan Street, Savannah, GA 31401. This meeting will also be accessible via conference call and via Zoom Meeting and Screenshare. Any interested person may call (i) 1-929-205-6099 (US Toll) or 1-669-900-6833 (US Toll) or (ii) 1-877-853-5247 (US Toll Free) or 1-888-788-0099 (US Toll Free), Meeting ID: 921 6857 9375, to listen and participate in this meeting. The website to participate via Zoom Meeting and Screenshare is https://kellen.zoom.us/meeting/register/tJYsceGtqTIpHdGvW1rdWp_GJbo2vONw9CpP.

Proposed Agenda

I. Welcome and Call To Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the October 27, 2022, UCR Board Meeting—UCR Board Chair

For Discussion and Possible Board Action

Draft Minutes from the October 27, 2022, UCR Board meeting will be reviewed. The Board will consider action to approve.

V. Report of FMCSA—FMCSA Representative

The Federal Motor Carrier Safety Administration (FMCSA) will provide a report on relevant activity.

VI. Renewal of UCR Contract With Contractor (DSL Transportation Services, Inc.)—UCR Chief Legal Officer

For Discussion and Possible Board Action

The UCR Chief Legal Officer will discuss a possible extension to the contract between the UCR Plan and DSL Transportation Services, Inc. The Board may take action to approve the extension.

VII. Subcommittee Reports

Audit Subcommittee—UCR Audit Subcommittee Chair

A. Review Recent Updates to the UCR Handbook—UCR Audit Subcommittee Chair, UCR Executive Director

The UCR Audit Subcommittee Chair and UCR Executive Director will lead a discussion on updating and clarifying the language in the UCR Handbook in regard to the usage of the term “operated” as it relates to a motor carrier beginning operations. A general update on other revisions to the UCR Handbook will also be provided.

B. Review States' Audit Compliance Snapshot for Registration Rates Audit Percentages for Years 2021 and 2022—UCR Audit Subcommittee Chair

The UCR Subcommittee Chair will review audit compliance rates for the states for registration years 2021 and 2022 and related compliance percentages for FARs, retreat audits, and registration compliance percentages.

C. Discuss Options for Hosting a Monthly Question and Answer Session for State Auditors—UCR Audit Subcommittee Chair and UCR Audit Subcommittee Vice-Chair

The UCR Audit Subcommittee Chair and UCR Audit Subcommittee Vice-Chair will lead a discussion regarding the value of a series of 60-minute virtual question and answer sessions for state auditors.

Finance Subcommittee—UCR Finance Subcommittee Chair

A. UCR Investment Policy—UCR Finance Subcommittee Chair

For Discussion and Possible Board Action

The UCR Finance Subcommittee Chair will lead a discussion on a recommended investment policy that will result in an enhanced cash management and investment strategy designed to increase the interest income that is earned on both administrative reserve funds and excess fees held in the UCR Depository. The Board may take action to approve a UCR Investment Policy. The Finance Subcommittee recommends the UCR Board adopt this proposal.

B. Review of 2023 UCR Administrative Budget—UCR Depository Manager and UCR Finance Subcommittee Chair

For Discussion and Possible Board Action

The UCR Depository Manager and UCR Finance Subcommittee Chair will lead a discussion regarding the proposed 2023 UCR administrative budget. The Board may take action to approve a 2023 administrative budget. The Finance Subcommittee recommends approval of the 2023 proposed administrative budget.

C. Revision to the Finance Subcommittee Meetings in the 2023 Proposed Meetings Schedule—UCR Finance Subcommittee Chair

The UCR Finance Subcommittee Chair will propose a modification to the 2023 schedule to separate the timing of this meeting from the annual NARUC conference.

Education and Training Subcommittee—UCR Education and Training Subcommittee Chair

Update on Current and Future Training Initiatives—UCR Education and Training Subcommittee Chair and UCR Chief of Staff

The Education and Training Subcommittee Chair and the UCR Chief of Staff will provide an update on current and planned future training initiatives and the E-Certificate program.

Industry Advisory Subcommittee—UCR Industry Advisory Subcommittee Chair

Update on Current Initiatives—UCR Industry Advisory Subcommittee Chair and UCR Staff Executive

The UCR Industry Advisory Subcommittee Chair and the UCR Staff Executive will provide an update on current and planned initiatives regarding motor carrier industry concerns.

VIII. Contractor Reports—UCR Executive Director

• UCR Executive Director's Report

The UCR Executive Director will provide a report covering recent activity for the UCR Plan.

• DSL Transportation Services, Inc.

DSL Transportation Services, Inc. will report on the latest data from the Focused Anomaly Reviews (FARs) program, discuss motor carrier inspection results, pilot projects and other matters.

• Seikosoft

Seikosoft will provide an update on recent/new activity related to the National Registration System (NRS).

• UCR Administrator Report (Kellen)

The UCR Chief of Staff will provide a management report covering recent activity for the Depository, Operations, and Communications.

IX. Other Business—UCR Board Chair

The UCR Board Chair will call for any other business, old or new, from the floor.

X. Adjournment—UCR Board Chair

The UCR Board Chair will adjourn the meeting.

The agenda will be available no later than 5:00 p.m. Eastern time, November 30, 2022, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-26741 Filed 12-5-22; 4:15 pm]

BILLING CODE 4910-YL-P